RAILROAD RETIREMENT BOARD

Correction to Agency Forms Submitted for OMB Review, Request for Comments

SUMMARY: The Railroad Retirement Board is making corrections to the July 23, 2009 document appearing on page 36540, FR Doc. E9-17510 titled, Agency Forms Submitted for OMB Review. Specifically, the Request for Comments for Information Collection Review (ICR); Application for Survivor Insurance Annuities (OMB 3220-0030) which was published with errors regarding the annual burden computation for the information collection.

Correction of Publication

In the table titled “Estimate of Annual Respondent Burden”, the AA-17b total burden hours should be 204 (not 270) and the total annual responses should be 3,722 (not 4,022).

Under the Information Collection Request (ICR) heading, the “Estimated annual number of respondents” should be 3,722 (not 4,022) and the “Total annual responses” should be 3,722 (not 4,022).

Charles Mierzwa,
Clearance Officer.

[FR Doc. E9-18929 Filed 8-6-09; 8:45 am]

BILLING CODE 7905-01-P